DEPARTMENT OF TRANSPORTATION

Federal Aviation Administration

14 CFR Part 97

[Docket No. 31220; Amdt. No. 3823]

Standard Instrument Approach Procedures, and Takeoff Minimums and Obstacle Departure Procedures; Miscellaneous Amendments

AGENCY: Federal Aviation Administration (FAA), DOT.

ACTION: Final rule.

SUMMARY: This rule establishes, amends, suspends, or removes Standard Instrument Approach Procedures (SIAPs) and associated Takeoff Minimums and Obstacle Departure Procedures (ODPs) for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective November 8, 2018. The compliance date for each SIAP, associated Takeoff Minimums, and ODP is specified in the amendatory provisions.

The incorporation by reference of certain publications listed in the regulations is approved by the Director of the Federal Register as of November 8, 2018.

ADDRESSES: Availability of matters incorporated by reference in the amendment is as follows:

For Examination

1. U.S. Department of Transportation, Docket Ops-M30, 1200 New Jersey Avenue SE, West Bldg., Ground Floor, Washington, DC 20590-0001.

2. The FAA Air Traffic Organization Service Area in which the affected airport is located;

3. The office of Aeronautical Navigation Products, 6500 South MacArthur Blvd., Oklahoma City, OK 73169 or,

4. The National Archives and Records Administration (NARA). For information on the availability of this material at NARA, call 202-741-6030, or go to: http://www.archives.gov/federal_register/code_of_federal_regulations/ibr_locations.html.

Availability

All SIAPs and Takeoff Minimums and ODPs are available online free of charge. Visit the National Flight Data Center at nfdc.faa.gov to register. Additionally, individual SIAP and Takeoff Minimums and ODP copies may be obtained from the FAA Air Traffic Organization Service Area in which the affected airport is located.

FOR FURTHER INFORMATION CONTACT: Thomas J. Nichols, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or removes SIAPS, Takeoff Minimums and/or ODPS. The complete regulatory description of each SIAP and its associated Takeoff Minimums or ODP for an identified airport is listed on FAA form documents which are incorporated by reference in this amendment under 5 U.S.C. 552(a), 1 CFR part 51, and 14 CFR part 97.20. The applicable FAA forms are FAA Forms 8260-3, 8260-4, 8260-5, 8260-15A, and 8260-15B when required by an entry on 8260-15A.

The large number of SIAPs, Takeoff Minimums and ODPs, their complex nature, and the need for a special format make publication in the Federal Register expensive and impractical. Further, airmen do not use the regulatory text of the SIAPs, Takeoff Minimums or ODPs, but instead refer to their graphic depiction on charts printed by publishers of aeronautical materials. Thus, the advantages of incorporation by reference are realized and publication of the complete description of each SIAP, Takeoff Minimums and ODP listed on FAA form documents is unnecessary. This amendment provides the affected CFR sections and specifies the types of SIAPs, Takeoff Minimums and ODPs with their applicable effective dates. This amendment also identifies the airport and its location, the procedure, and the amendment number.

Availability and Summary of Material Incorporated by Reference

The material incorporated by reference is publicly available as listed in the ADDRESSES section.

The material incorporated by reference describes SIAPS, Takeoff Minimums and/or ODPS as identified in the amendatory language for part 97 of this final rule.

The Rule

This amendment to 14 CFR part 97 is effective upon publication of each separate SIAP, Takeoff Minimums and ODP as Amended in the transmittal. Some SIAP and Takeoff Minimums and textual ODP amendments may have been issued previously by the FAA in a Flight Data Center (FDC) Notice to Airmen (NOTAM) as an emergency action of immediate flight safety relating directly to published aeronautical charts.

The circumstances that created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure under 5 U.S.C. 553(b) are impracticable and contrary to the public interest and, where applicable, under 5 U.S.C 553(d), good cause exists for making some SIAPs effective in less than 30 days.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, Navigation (air).

Issued in Washington, DC, on October 19, 2018.
Rick Domingo,
Executive Director, Flight Standards Service.

Adoption of the Amendment

Accordingly, pursuant to the authority delegated to me, Title 14, Code of Federal Regulations, Part 97 (14 CFR part 97) is amended by establishing, amending, suspending, or removing Standard Instrument Approach Procedures and/or Takeoff Minimums and Obstacle Departure Procedures effective at 0901 UTC on the dates specified, as follows:

PART 97—STANDARD INSTRUMENT APPROACH PROCEDURES

1. The authority citation for part 97 continues to read as

follows:

Authority: 49 U.S.C. 106(f), 106(g), 40103, 40106, 40113, 40114, 40120, 44502, 44514, 44701, 44719, 44721-44722.

2. Part 97 is amended to read as follows:

Effective 6 December 2018

Chandler, AZ, Stellar Airpark, Takeoff Minimums and Obstacle DP, Amdt 3

Porterville, CA, Porterville Muni, Takeoff Minimums and Obstacle DP, Amdt 2A

Hollywood, FL, North Perry, RNAV (GPS) RWY 10R, Orig-C

Hollywood, FL, North Perry, RNAV (GPS) RWY 28R, Orig-C

Perry, GA, Perry-Houston County, ILS OR LOC RWY 36, Orig-A

Provincetown, MA, Provincetown Muni, ILS OR LOC RWY 7, Amdt 9A

Chillicothe, MO, Chillicothe Muni, RNAV (GPS) RWY 32, Amdt 1A

Hattiesburg-Laurel, MS, Hattiesburg-Laurel Rgnl, Takeoff Minimums and Obstacle DP, Amdt 4

Whiteville, NC, Columbus County Muni, NDB RWY 6, Amdt 6

Whiteville, NC, Columbus County Muni, RNAV (GPS) RWY 6, Amdt 1

Wurtsboro, NY, Wurtsboro-Sullivan County, Takeoff Minimums and Obstacle DP, Amdt 2

Findlay, OH, Findlay, Takeoff Minimums and Obstacle DP, Amdt 1

Effective 3 January 2019

Anchorage, AK, Ted Stevens Anchorage Intl, RNAV (RNP) RWY 33, Amdt 1

Buckland, AK, Buckland, RNAV (GPS) RWY 11, Amdt 2A

Dillingham, AK, Dillingham, RNAV (GPS) RWY 1, Amdt 2D

Dillingham, AK, Dillingham, VOR RWY 1, Amdt 9D

Kotlik, AK, Kotlik, RNAV (GPS) RWY 2, Orig-D

Kotzebue, AK, Ralph Wien Memorial, ILS OR LOC RWY 9, Amdt 1A

Kotzebue, AK, Ralph Wien Memorial, RNAV (GPS) RWY 9, Orig-C

Kotzebue, AK, Ralph Wien Memorial, RNAV (GPS) RWY 27, Orig-C

Kotzebue, AK, Ralph Wien Memorial, VOR RWY 9, Orig-D

Kotzebue, AK, Ralph Wien Memorial, VOR RWY 27, Orig-B

Bay Minette, AL, Bay Minette Muni, RNAV (GPS) RWY 8, Amdt 1B

Reform, AL, North Pickens, RNAV (GPS) RWY 19, Amdt 1B

Mena, AR, Mena Intermountain Muni, Takeoff Minimums and Obstacle DP, Amdt 6

Bullhead City, AZ, Laughlin/Bullhead Intl, RNAV (GPS) RWY 16, Amdt 2C

Willits, CA, Ells Field-Willits Muni, RNAV (GPS) RWY 34, Amdt 1C

Fort Morgan, CO, Fort Morgan Muni, RNAV (GPS) RWY 14, Amdt 1A

Oxford, CT, Waterbury-Oxford, Takeoff Minimums and Obstacle DP, Amdt 6

Daytona Beach, FL, Daytona Beach Intl, VOR RWY 16, Amdt 18C, CANCELED

Deland, FL, Deland Muni-Sidney H Taylor Field, VOR/DME RWY 23, Orig-A, CANCELED

Marco Island, FL, Marco Island Executive, RNAV (GPS) RWY 17, Orig-A

Marco Island, FL, Marco Island Executive, RNAV (GPS) RWY 35, Orig-B

Marco Island, FL, Marco Island Executive, Takeoff Minimums and Obstacle DP, Amdt 3

Marco Island, FL, Marco Island Executive, VOR/DME RWY 17, Amdt 7, CANCELED

Miami, FL, Miami Intl, ILS OR LOC RWY 9, Amdt 10B

New Smyrna Beach, FL, New Smyrna Beach Muni, Takeoff Minimums and Obstacle DP, Amdt 3

Ormond Beach, FL, Ormond Beach Muni, Takeoff Minimums and Obstacle DP, Orig-A

Ormond Beach, FL, Ormond Beach Muni, VOR RWY 17, Amdt 2B, CANCELED

Sebring, FL, Sebring Rgnl, RNAV (GPS) RWY 32, Orig-B

St Petersburg, FL, Albert Whitted, RNAV (GPS) RWY 18, Orig-E

St Petersburg, FL, Albert Whitted, Takeoff Minimums and Obstacle DP, Amdt 3

Lagrange, GA, Lagrange-Callaway, VOR RWY 13, Amdt 16A

Mount Pleasant, IA, Mount Pleasant Muni, NDB RWY 33, Amdt 6B, CANCELED

Bonners Ferry, ID, Boundary County, KARPS TWO, Graphic DP

Chicago, IL, Chicago O'Hare Intl, ILS OR LOC RWY 9L, ILS RWY 9L SA CAT I, ILS RWY 9L CAT II, ILS RWY 9L CAT III, Amdt 4A

Chicago, IL, Chicago O'Hare Intl, ILS OR LOC RWY 27R, ILS RWY 27R SA CAT I, ILS RWY 27R CAT II, ILS RWY 27R CAT III, Amdt 4A

Chicago, IL, Chicago O'Hare Intl, RNAV (GPS) RWY 9L, Amdt 3B

Chicago, IL, Chicago O'Hare Intl, RNAV (GPS) RWY 27R, Amdt 3B

Decatur, IL, Decatur, ILS OR LOC RWY 6, Amdt 14

Decatur, IL, Decatur, LOC BC RWY 24, Amdt 11

Decatur, IL, Decatur, RNAV (GPS) RWY 30, Amdt 2

Decatur, IL, Decatur, RNAV (GPS) RWY 36, Amdt 2

Decatur, IL, Decatur, VOR RWY 36, Amdt 17

Fairfield, IL, Fairfield Muni, Takeoff Minimums and Obstacle DP, Amdt 3

Paris, IL, Edgar County, RNAV (GPS) RWY 9, Amdt 1A

Paris, IL, Edgar County, RNAV (GPS) RWY 18, Orig-A

Paris, IL, Edgar County, RNAV (GPS) RWY 27, Amdt 1B

Paris, IL, Edgar County, RNAV (GPS) RWY 36, Orig-A

Columbus, IN, Columbus Muni, ILS OR LOC RWY 23, Amdt 8

Connersville, IN, Mettel Field, RNAV (GPS) RWY 18, Amdt 2

Connersville, IN, Mettel Field, RNAV (GPS) RWY 36, Amdt 3

Hutchinson, KS, Hutchinson Rgnl, RNAV (GPS) RWY 4, Amdt 1A

Hutchinson, KS, Hutchinson Rgnl, RNAV (GPS) RWY 35, Orig-A

Kingman, KS, Kingman Airport—Clyde Cessna Field, RNAV (GPS) RWY 18, Amdt 1A

Neodesha, KS, Neodesha Muni, Takeoff Minimums and Obstacle DP, Orig

Scott City, KS, Scott City Muni, NDB RWY 35, Amdt 1A, CANCELED

Tribune, KS, Tribune Muni, RNAV (GPS) RWY 17, Orig-A

Owensboro, KY, Owensboro-Daviess County Rgnl, VOR RWY 36, Amdt 19B

Oakdale, LA, Allen Parish, NDB RWY 36, Amdt 1, CANCELED

Baldwin, MI, Baldwin Muni, Takeoff Minimums and Obstacle DP, Amdt 1

Beaver Island, MI, Beaver Island, NDB RWY 27, Amdt 1A, CANCELED

Frankfort, MI, Frankfort Dow Memorial Field, VOR/DME-A, Amdt 1A, CANCELED

Manistique, MI, Schoolcraft County, VOR RWY 28, Amdt 1A, CANCELED

Niles, MI, Jerry Tyler Memorial, RNAV (GPS) RWY 33, Orig-B

Pellston, MI, Pellston Rgnl Airport of Emmet County, RNAV (GPS) RWY 5, Orig-C

Sault STE Marie, MI, Chippewa County Intl, RNAV (GPS) RWY 16, Amdt 1B

Rochester, MN, Rochester Intl, COPTER ILS Y OR LOC Y RWY 31, Amdt 3

Rochester, MN, Rochester Intl, ILS Z OR LOC Z RWY 31, ILS RWY 31 SA CAT I, ILS RWY 31 SA CAT II, Amdt 23

Rochester, MN, Rochester Intl, RNAV (GPS) RWY 31, Amdt 2

Cameron, MO, Cameron Memorial, RNAV (GPS) RWY 17, Amdt 1A

Cameron, MO, Cameron Memorial, RNAV (GPS) RWY 35, Amdt 1A

Poplar Bluff, MO, Poplar Bluff Muni, RNAV (GPS) RWY 18, Orig-A

Poplar Bluff, MO, Poplar Bluff Muni, RNAV (GPS) RWY 36, Orig-A

Sullivan, MO, Sullivan Regional, NDB RWY 24, Orig-B, CANCELED

Grenada, MS, Grenada Muni, RNAV (GPS) RWY 4, Amdt 1C

Grenada, MS, Grenada Muni, RNAV (GPS) RWY 13, Amdt 1B

Grenada, MS, Grenada Muni, RNAV (GPS) RWY 22, Amdt 1C

Grenada, MS, Grenada Muni, RNAV (GPS) RWY 31, Amdt 1B

Billings, MT, Billings Logan Intl, ILS Y OR LOC Y RWY 10L, Amdt 26A

Bozeman, MT, Bozeman Yellowstone Intl, ILS OR LOC RWY 12, Amdt 9C

Bozeman, MT, Bozeman Yellowstone Intl, RNAV (GPS)-A, Amdt 2C

Bozeman, MT, Bozeman Yellowstone Intl, RNAV (GPS) Y RWY 12, Orig-C

Bozeman, MT, Bozeman Yellowstone Intl, VOR RWY 12, Amdt 15C

Concord, NC, Concord-Padgett Rgnl, ILS OR LOC RWY 20, Amdt 2A

Concord, NC, Concord-Padgett Rgnl, RNAV (GPS) RWY 2, Amdt 1A

Concord, NC, Concord-Padgett Rgnl, RNAV (GPS) RWY 20, Orig-A

Concord, NC, Concord-Padgett Rgnl, Takeoff Minimums and Obstacle DP, Amdt 3A

Star, NC, Montgomery County, RNAV (GPS) RWY 21, Orig-B

Andover, NJ, Aeroflex-Andover, Takeoff Minimums and Obstacle DP, Amdt 2

Pittstown, NJ, Sky Manor, RNAV (GPS) RWY 7, Amdt 1A

Pittstown, NJ, Sky Manor, RNAV (GPS) RWY 25, Orig-B

Lovelock, NV, Derby Field, Takeoff Minimums and Obstacle DP, Amdt 1

Middletown, NY, Randall, RNAV (GPS) RWY 8, Amdt 1B

Middletown, NY, Randall, RNAV (GPS) RWY 26, Amdt 1B

Middletown, NY, Randall, VOR RWY 8, Amdt 7B

Rochester, NY, Greater Rochester Intl, RNAV (GPS) RWY 10, Amdt 1B

Rome, NY, Griffiss Intl, Takeoff Minimums and Obstacle DP, Amdt 1A

Cincinnati, OH, Cincinnati Muni Airport Lunken Field, ILS OR LOC RWY 21L, Amdt 20

Cincinnati, OH, Cincinnati Muni Airport Lunken Field, LOC BC RWY 3R, Amdt 9

Cincinnati, OH, Cincinnati Muni Airport Lunken Field, NDB RWY 25, Amdt 12B, CANCELED

Defiance, OH, Defiance Memorial, RNAV (GPS) RWY 12, Amdt 1A

Hillsboro, OH, Highland County, NDB RWY 23, Amdt 5A, CANCELED

Wadsworth, OH, Wadsworth Muni, VOR-A, Amdt 2A

Idabel, OK, Mc Curtain County Rgnl, RNAV (GPS) RWY 2, Amdt 1

Idabel, OK, Mc Curtain County Rgnl, RNAV (GPS) RWY 20, Amdt 1

Tahlequah, OK, Tahlequah Muni, NDB RWY 17, Amdt 2, CANCELED

Lebanon, PA, Keller Brothers, RNAV (GPS) RWY 7, Orig-B

Lebanon, PA, Keller Brothers, RNAV (GPS) RWY 25, Orig-B

Pickens, SC, Pickens County, NDB RWY 5, Amdt 1, CANCELED

Chattanooga, TN, Lovell Field, ILS OR LOC RWY 2, Amdt 7D

Chattanooga, TN, Lovell Field, ILS OR LOC RWY 20, ILS RWY 20 CAT II, Amdt 36C

Chattanooga, TN, Lovell Field, RNAV (GPS) RWY 2, Amdt 1A

Chattanooga, TN, Lovell Field, RNAV (GPS) RWY 15, Amdt 1

Chattanooga, TN, Lovell Field, RNAV (GPS) RWY 20, Amdt 1A

Chattanooga, TN, Lovell Field, RNAV (GPS) RWY 33, Amdt 1

Chattanooga, TN, Lovell Field, Takeoff Minimums and Obstacle DP, Amdt 12

Chattanooga, TN, Lovell Field, VOR RWY 33, Amdt 17B

Mountain City, TN, Johnson County, RNAV (GPS) RWY 6, Orig-A

Mountain City, TN, Johnson County, RNAV (GPS) RWY 24, Orig-A

Burnet, TX, Burnet Muni Kate Craddock Field, Takeoff Minimums and Obstacle DP, Amdt 2

College Station, TX, Easterwood Field, VOR OR TACAN RWY 11, Amdt 19E

Houston, TX, Houston-Southwest, RNAV (GPS) RWY 9, Amdt 2A

Kerrville, TX, Kerrville Muni/Louis Schreiner Field, Takeoff Minimums and Obstacle DP, Amdt 2

Port Isabel, TX, Port Isabel-Cameron County, VOR/DME-B, Amdt 3A, CANCELED

Brookneal, VA, Brookneal/Campbell County, RNAV (GPS) RWY 24, Amdt 1B

Lynchburg, VA, Lynchburg Rgnl/Preston Glenn Fld, ILS OR LOC RWY 4, Amdt 17B

Lynchburg, VA, Lynchburg Rgnl/Preston Glenn Fld, RNAV (GPS) RWY 4, Orig-B

Lynchburg, VA, Lynchburg Rgnl/Preston Glenn Fld, RNAV (GPS) RWY 22, Orig-B

Lynchburg, VA, Lynchburg Rgnl/Preston Glenn Fld, VOR RWY 22, Amdt 8D

Kenosha, WI, Kenosha Rgnl, RNAV (GPS) RWY 15, Orig-A

Kenosha, WI, Kenosha Rgnl, RNAV (GPS) RWY 25R, Orig-A

Kenosha, WI, Kenosha Rgnl, RNAV (GPS) RWY 33, Orig-A

Marshfield, WI, Marshfield Muni, NDB RWY 16, Amdt 11, CANCELED

Middleton, WI, Middleton Muni—Morey Field, Takeoff Minimums and Obstacle DP, Amdt 2

Milwaukee, WI, General Mitchell Intl, LOC RWY 25L, Amdt 6A

Logan, WV, Logan County, RNAV (GPS) RWY 6, Amdt 1A

Milton, WV, Ona Airpark, RNAV (GPS)-A, Orig-A

Morgantown, WV, Morgantown Muni-Walter L Bill Hart Fld, RNAV (GPS) RWY 36, Amdt 1

Saratoga, WY, Shively Field, Takeoff Minimums and Obstacle DP, Orig-A

[FR Doc. 2018-24215 Filed 11-7-18; 8:45 am]

BILLING CODE 4910-13-P